DEPARTMENT OF VETERANS AFFAIRS

[OMB Control No. 2900-0788]

Proposed Information Collection (Description of Materials) Activity: Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed revision and allow 60 days for public comment in response to the notice. This notice solicits comments for information needed to determine if proposed construction material meets regulatory requirements and if the property is suitable for mortgage insurance.

DATES: Written comments and recommendations on the proposed collection of information should be received on or before April 20, 2015.

ADDRESSES: Submit written comments on the collection of information through the Federal Docket Management System (FDMS) at www.Regulations.gov; or to Nancy J. Kessinger, Veterans Benefits Administration (20M33), Department of Veterans Affairs, 810 Vermont Avenue NW., Washington, DC 20420 or email nancy.kessinger@va.gov. Please refer to “OMB Control No. 2900-0788” in any correspondence. During the comment period, comments may be viewed online through FDMS.

FOR FURTHER INFORMATION CONTACT: Nancy J. Kessinger at (202) 632-8924 or FAX (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Description of Materials, VA Form 26-1852.

OMB Control Number: 2900-0788.

Type of Review: Revision of an approved collection.

Abstract: VA Form 26-1852 is used to document material used in the construction of a dwelling or specially adapted housing project. VA appraiser will use the information collected to establish the value and/or cost of adaptations for the property before it is constructed.

Affected Public: Individuals and Households.

Estimated Annual Burden: 1,800 hours.

Estimated Average Burden per Respondent: 30 minutes.

Frequency of Response: One time.

Estimated Number of Respondents: 2,800.

Dated: February 10, 2015.
By direction of the Secretary.
Crystal Rennie,
Department Clearance Officer, Department of Veterans Affairs.

[FR Doc. 2015-03067 Filed 2-13-15; 8:45 am]

BILLING CODE 8320-01-P